NUCLEAR REGULATORY COMMISSION

[Docket No. 72-3; NRC-2014-0049]

Duke Energy Progress, Inc.—H.B. Robinson Steam Electric Plant; Independent Spent Fuel Storage Installation

AGENCY: Nuclear Regulatory Commission.

ACTION: License amendment; issuance.

SUMMARY: The U.S. Nuclear Regulatory Commission (NRC) reviewed an application by Carolina Power and Light Company (CP&L) for amendment of Materials License No. SNM-2502 which authorizes CP&L to receive, possess, store, and transfer spent nuclear fuel and associated radioactive materials. The requested amendment would change the corporate name of the licensee from Carolina Power and Light to Duke Energy Progress, Inc. for the H.B. Robinson Steam Electric Plant (HBRSEP) Independent Spent Fuel Storage Installation (ISFSI).

ADDRESSES: Please refer to Docket ID NRC-2014-0049 when contacting the NRC about the availability of information regarding this document. You may access publicly-available information related to this action by the following methods:

• Federal Rulemaking Web site: Go to http://www.regulations.gov and search for Docket ID NRC-2014-0049. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The H.B. Robinson License Amendment Request No. 2 package is available in ADAMS under Accession No. ML14056A311.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555-0001, telephone: 301-287-9202; email: John-Chau.Nguyen@nrc.gov.

SUPPLEMENTARY INFORMATION: On March 30, 2005, the NRC renewed Materials License No. SNM-2502 to the Carolina Power and Light Company (CP&L) for the H.B. Robinson Steam Electric Plant (HBRSEP) Independent Spent Fuel Storage Installation (ISFSI), located in Hartsville, South Carolina. The renewed license authorizes CP&L to receive, possess, store, and transfer spent nuclear fuel and associated radioactive materials resulting from the operation of the HBRSEP in an ISFSI at the power plant site for a term of 40 years. The NRC staff also issued an Environmental Assessment and Finding of No Significant Impact related to the issuance of the renewed ISFSI license on March 17, 2005, in accordance with the National Environmental Policy Act, and in conformance with the applicable requirements of Part 51 of Title 10 of the Code of Federal Regulations (10 CFR).

On April 10, 2013, CP&L submitted a request for a license amendment to the NRC in accordance with 10 CFR 72.56, “Application for amendment of license.” The requested amendment would change the corporate name of the licensee from Carolina Power and Light to Duke Energy Progress, Inc. The application included adequate justification for the proposed changes.

Pursuant to 10 CFR 72.46, the NRC has docketed, approved and issued Amendment No. 2 to Materials License No. SNM-2502 held by CP&L for the receipt, possession, transfer, and storage of spent fuel at the HBRSEP ISFSI. Amendment No. 2 is effective as of the date of issuance.

Amendment No. 2 complies with the standards and requirements of the Atomic Energy Act of 1954, as amended (the Act), and the Commission's rules and regulations. The Commission has made appropriate findings, as required by the Act and the Commission's rules and regulations in 10 CFR Chapter 1, which are set forth in Amendment No. 2. The issuance of Amendment No. 2 satisfied the criteria specified in 10 CFR 51.22(c)(11) for a categorical exclusion. Thus, the preparation of an environmental assessment or an environmental impact statement is not required.

In accordance with 10 CFR 72.46(b)(2), the NRC has determined that Amendment No. 2 does not present a genuine issue as to whether public health and safety will be significantly affected. Therefore, the publication of a notice of proposed action and an opportunity for hearing or a notice of hearing is not warranted. Notice is hereby given of the right of interested persons to request a hearing on whether the action should be rescinded or modified.

Dated at Rockville, Maryland, this 10th day of March 2014.
For the Nuclear Regulatory Commission.
Michele Sampson,
Chief, Licensing Branch, Division of Spent Fuel Storage and Transportation, Office of Nuclear Material Safety and Safeguards.

[FR Doc. 2014-05655 Filed 3-13-14; 8:45 am]

BILLING CODE 7590-01-P